DEPARTMENT OF HEALTH AND HUMAN SERVICES

National Institutes of Health

Office of the Director, National Institutes of Health; Notice of Meeting

Pursuant to section 10(a) of the Federal Advisory Committee Act, as amended (5 U.S.C. Appendix 2, notice is hereby giving of a meeting of the Secretary's Advisory Committee on Xenotransplantation.

The meeting will be open to the public; however, seating is limited and pre-registration is encouraged. To pre-register, please contact Capital Consulting Corporation (Joanne Mowczko) at 301-468-6001, ext. 418. Individuals who plan to attend and need special assistance, such as sign language interpretation or reasonable accommodations, should notify Ms. Mowczko is advance of the meeting.

Name of Committee: Secretary's Advisory Committee on Xenotransplantation.

Date: March 11-12, 2002.

Time: March 11—8:00 am to 5:00 PM. March 12—8:00 am to adjournment.

Agenda: The SACX will focus on a variety of issues relating to the science of xenotransplantation and to informed consent issues in xenotransplantation clinical trials. The first day of the SACX meeting will include presentations and discussions of endothelial cell-host interactions in solid organ xenotransplantation; transgenic and cloning technologies; cellular transplants; extracorporeal technologies; complement and coagulation systems; and immune rejection and tolerance. The second day will include concurrent breakout sessions during which the SACX Working Groups will convene, and plenary discussion of their progress. Closer to the meeting, a more updated agenda will be available electronically at http://www4.od.nih.gov/oba/Sacx.htm

Public Comment: Individuals who wish to provide public comment (oral or written) should contact the SACX Executive Director, Mary Groesch, by telephone at 301-496-0785, or email at groeschm@od.nih.gov.

Place: Holiday Inn Select Bethesda, 8120 Wisconsin Avenue, Bethesda, MD 20814.

Contact Person: Mary Groesch, Ph.D., Executive Director, Secretary's Advisory Committee on Xenotransplantation, Office of Science Policy, Rockledge, I, Room 750, Bethesda MD 20892, 301-496-9838

(Catalogue of Federal Domestic Assistance Program Nos. 93.14, Intramural Research Training Award; 93.187, Undergraduate Scholarship Program for Individuals from Disadvantaged Backgrounds; 93.22, Clinical Research Loan Repayment Program for Individuals from Disadvantaged Backgrounds; 93.232, Loan Repayment Program for Research Generally; 93.39, Academic Research Enhancement Award; 93.936 yNIH Acquired Immunodeficiency Syndrome Research Loan Repayment Program, National Institutes of Health HHS)

Dated: February 07, 2002.
LaVerne Y. Stringfield,
Director, Office of Federal Advisory Committee Policy.

[FR Doc. 02-3832 Filed 2-15-02; 8:45 am]

BILLING CODE 4140-01-M